DEPARTMENT OF THE INTERIOR

Bureau of Land Management

[NV-010-1990-EX]

Record of Decision; South Operations Area Project Amendment, Eureka Co., NV

AGENCY: Bureau of Land Management, Interior.

ACTION: Notice of availability.

SUMMARY: Pursuant to Section 202 of the National Environmental Policy Act of 1969, an Environmental Impact Statement (EIS) has been prepared, under third party contract, by the Bureau of Land Management (BLM), Elko Field Office. The EIS was prepared to analyze impacts and alternatives for Newmont Mining Corporation's proposed South Operations Area Project Amendment. The proposed project expansion would result in disturbance of an additional 1392 acres of federal and private lands located in Eureka County, Nevada. The Final EIS was released for public review April 26, 2002. The Record of Decision (ROD) was signed by the Elko Field Office Manager May 31, 2002, approving the proposed project and incorporating mitigating modifications analyzed under the proposed action.

Copies of the ROD can be obtained from the Elko Field Office at 3900 Idaho Street, Elko, Nevada, or by calling (775) 753-0200 and requesting a copy of the document. It may also be downloaded from the Elko Field office internet site at www.nv.blm.gov/elko. Additionally, a copy of the ROD will be mailed to individuals, agencies or companies that commented during the scoping process, or on the Draft and Final EIS.

EFFECTIVE DATES: Parties adversely affected by the Record of Decision have 30 days, from the date of publication of this notice, to file a Notice of Appeal in the office which issued this decision (43 CFR 4.411 and 4.413). The decision to approve the mining operation is in full force and effect, effective on the date of signing of the Record of Decision. A petition for a stay of the decision must be filed in accordance with the above cited regulations.

ADDRESSES: A copy of the Record of Decision can be obtained from: Bureau of Land Management, Elko Field Office, 3900 Idaho Street, Elko, Nevada 89801. A notice of Appeal should be addressed to: Bureau of Land Management, Elko Field Office, 3900 Idaho Street, Elko, NV 89801, and a copy to: Office of the Regional Solicitor, Salt Lake City Federal Building, 125 South State Street, Salt Lake City, UT 84138.

FOR FURTHER INFORMATION CONTACT: Roger Congdon, Project Coordinator, Elko Field Office, Bureau of Land Management, 3900 Idaho Street, Elko, Nevada 89801, (775) 753-0200.

Robert V. Abbey,
State Director, Nevada.

[FR Doc. 02-11443 Filed 5-7-02; 8:45 am]

BILLING CODE 4310-HC-P